DEPARTMENT OF COMMERCE

Foreign-Trade Zones Board

[B-18-2016]

Foreign-Trade Zone (FTZ) 186—Waterville, Maine; Notification of Proposed Production Activity; Flemish Master Weavers (Area Rugs); Sanford, Maine

The City of Waterville, Maine, grantee of FTZ 186, submitted a notification of proposed production activity to the FTZ Board on behalf of Flemish Master Weavers (FMW), located in Sanford, Maine. The notification conforming to the requirements of the regulations of the FTZ Board (15 CFR 400.22) was received on March 31, 2016.

The FMW facility is located at 96 Gatehouse Road, Sanford, Maine. A separate application for subzone designation at the FMW facility has been submitted and will be processed under Section 400.25 of the FTZ Board's regulations. The facility is used for the production of area rugs using polypropylene and polyester yarns. Pursuant to 15 CFR 400.14(b) of the regulations, FTZ activity would be limited to the specific foreign-status materials and components and specific finished products described in the submitted notification (as described below) and subsequently authorized by the FTZ Board.

Production under FTZ procedures could exempt FMW from customs duty payments on foreign status materials used in export production. On its domestic sales, FMW would be able to choose the duty rate during customs entry procedures that applies to area rugs (free) for the polypropylene and polyester yarns (duty rates: 8.0% and 8.8%, respectively) sourced from abroad. Customs duties also could possibly be deferred or reduced on foreign status production equipment.

Public comment is invited from interested parties. Submissions shall be addressed to the FTZ Board's Executive Secretary at the address below. The closing period for their receipt is May 25, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 11, 2016.
Andrew McGilvray,
Executive Secretary.

[FR Doc. 2016-08794 Filed 4-14-16; 8:45 am]

BILLING CODE 3510-DS-P